DEPARTMENT OF VETERANS AFFAIRS

[OMB Control No. 2900-0216]

Agency Information Collection Activity: Application for Accrued Amounts Due a Deceased Beneficiary; Correction

AGENCY: Veterans Benefits Administration, Department of Veterans Affairs.

ACTION: Notice; correction.

SUMMARY: The Department of Veterans Affairs (VA) published a collection of information notice in the Federal Register on Friday, March 25, 2022, that contained an error. The 60-day Public Comment notice identified the wrong type of review for the Agency Information Collection Activity. This document corrects the notice by replacing the error and providing the correction from an extension of a currently approved collection to a revision of a currently approved collection.

FOR FURTHER INFORMATION CONTACT: Maribel Aponte, Office of Enterprise and Integration, Data Governance Analytics (008), 1717 H Street NW, Washington, DC 20006, (202) 266-4688 or email maribel.aponte@va.gov. Please refer to “OMB Control No. 2900-0216” in any correspondence.

SUPPLEMENTARY INFORMATION:

Correction

In FR Doc. 2022-06343, published on Friday, March 25, 2022, at 87 FR 17140, make the following corrections. On page 17140, in the SUMMARY section, and in the SUPPLEMENTARY INFORMATION section under “Type of Review,” replace the two instances of the word “extension” with the word “revision.”

Dated: March 28, 2022.
By direction of the Secretary.
Maribel Aponte,
VA PRA Clearance Officer, Office of Enterprise and Integration/Data Governance Analytics, Department of Veterans Affairs.

[FR Doc. 2022-06792 Filed 3-30-22; 8:45 am]

BILLING CODE 8320-01-P